NUCLEAR REGULATORY COMMISSION

Application for a License To Export High-Enriched Uranium

Pursuant to 10 CFR 110.70(b)(2) “Public notice of receipt of an application,” please take notice that the Nuclear Regulatory Commission has received the following request for an export license. Copies of the request can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export special nuclear material as defined in 10 CFR part 110 and noticed herein, the Commission does not evaluate the health, safety or environmental effects in the recipient nation of the material to be exported. The information concerning the application follows.

NRC Export License Application for High-Enriched Uranium

Name of Applicant

Date of Application—Date Received

Application Number

Docket Number

Material Type

End Use

Country of Destination

DOE/NNSA—Y12, June 1, 2005

High-Enriched Uranium

The material would be transferred initially to CERCA, in France, where it would be fabricated into fuel. This fuel would then be transferred to Studiecentrum voor Kernergie (SCK) for ultimate use at BR-2 research reactor located in Mol, Belgium from 2008-2011.

Belgium

June 2, 2005

XSNM03404

11005562

Dated this 21st day of June 2005 at Rockville, Maryland.
For the Nuclear Regulatory Commission.
Margaret M. Doane,
Deputy Director, Office of International Programs.

[FR Doc. E5-3342 Filed 6-27-05; 8:45 am]

BILLING CODE 7590-01-P